DEPARTMENT OF COMMERCE

National Oceanic and Atmospheric Administration

NOAA Research Draft Report; Request for Public Comment

ACTION: Notice of availability and request for public comment.

SUMMARY: The Office of Oceanic and Atmospheric Research (OAR), will post the NOAA Research Draft Report for public comment on December 15, 2003. The complete draft document will be posted on the National Oceanic and Atmospheric Administration (NOAA), Science Advisory Board (SAB) Web site at http://www.sab.noaa.gov/reports/review-draft.pdf. The panel is seeking public comment from all interested parties. This draft is being issued for comment only and is not intended for interim use. The Review Team will review the public comments received on the draft document. Suggested changes will be incorporated, where appropriate, in the final draft report.

The 2003 House and Senate Appropriations Subcommittee Reports have language pertaining to the Office of Oceanic and Atmospheric Research. The report accompanying the House Commerce, Justice State (CJS) Appropriations Subcommittee mark states: “In recognition of current resource limitations the Committee is forced to operate within, the Committee directs NOAA to review the continued requirements for twelve separate laboratories, six of which are located in Boulder, Colorado. The Committee directs NOAA to submit a laboratory consolidation plan to the Committee by March 15, 2004.” The Senate report language states: “NOAA is directed to report to the Committee on Appropriations on the costs and benefits of breaking OAR up into its constituent parts and distributing those parts as desirable to the other line offices. The report should specifically address how the newly configured research sector will directly assist line offices in developing timely solutions to problems confronting NOAA now and in the next 5 years.”

In response to the Congressional report language NOAA appointed an “Ad Hoc Review Team” (here called the NOAA Research Review Team), under the auspices of the Science Advisory Board (SAB) consisting of five members. The Review team will be disbanded once the review is completed and a final report issued. This panel is tasked with: (1) Conducting a review of OAR for the purpose of improving the effectiveness and efficiency of its research enterprise, (2) establishing if OAR is adequately linked to NOAA's service organizations (i.e., National Weather Service (NWS), National Environmental Satellite Data, and Information Service (NESDIS), National Marine Fisheries Service (NMFS), and the National Ocean Service (NOS)), (3) assessing if the research programs are relevant to the needs of these organizations. The team's recommendations will assist NOAA in responding to the language in the 2004 House and Senate CJS appropriation reports.

The NOAA Research Review Team will present its findings to the Science Advisory Board in two (2) reports. The draft of the first report will be posted on the Science Advisory Board Web site at: http://www.sab.noaa.gov/reports/review-draft.pdf, on December 15, 2003, for public comment. Public comments may be submitted from December 15, 2003, to January 14, 2004.

NOAA welcomes all comments on the content of the report. We also ask that you comment on any inconsistencies within the report, and omissions of important topics or issues. For any shortcoming that you note in the draft, please propose specific remedies.

Please follow these instructions for preparing and submitting your review. Using the format guidance described below will facilitate the processing of reviewer comments and assure that your comments are appropriately considered. Please provide background information about yourself on the first page of your comments: your name(s), organization(s), area(s) of expertise, mailing address(es), telephone and fax numbers, email address(es). Overview comments on the section should follow your background information and should be numbered. Comments that are specific to particular pages, paragraphs or lines of the section should follow your overview comments and should identify the page numbers to which they apply. Please number all your pages (on the upper right hand of each page), and have your identifying information at the top of each page.

DATES: Comments on this draft document must be submitted by January 14, 2004.

ADDRESSES: The NOAA Research Review Team Report will be available on the SAB Web site at http://www.sab.noaa.gov/reports/review-draft.pdf on December 15, 2003.

All comments should be sent electronically to research.review@noaa.gov, or to NOAA Research, Science Advisory Board, c/o Ms. M. Whitcomb, Silver Spring Metro Center, Bldg. 3, Room 11558, 1315 East-West Highway, Silver Spring, Maryland 20910.

FOR FURTHER INFORMATION CONTACT: Ms. M. Whitcomb, Silver Spring Metro Center, Bldg. 3, Room 11558, 1315 East-West Highway, Silver Spring, Maryland 20910 (phone 301-713-2454 x 173), during normal business hours of 8 a.m. to 5 p.m. eastern time, Monday through Friday, or visit the SAB Web site at: http://www.sab.noaa.gov/reports/review_draft.pdf.

SUPPLEMENTARY INFORMATION: None.

Louisa Koch,
Deputy Assistant Administrator, Office of Oceanic and Atmospheric Research.

[FR Doc. 03-29888 Filed 12-4-03; 8:45 am]

BILLING CODE 3510-KD-U